DEPARTMENT OF THE INTERIOR

Bureau of Land Management

[LLUTC00000.L51010000.ER0000.LVRWJ09J4050; UTU-83067]

Notice of Availability of Draft Environmental Impact Statement for the Sigurd to Red Butte No. 2-345 Kilovolt Transmission Line Project, Utah

AGENCY: Bureau of Land Management, Interior.

ACTION: Notice of availability.

SUMMARY: In accordance with the National Environmental Policy Act of 1969, as amended, the Bureau of Land Management (BLM) has prepared a Draft Environmental Impact Statement (EIS) for the Sigurd to Red Butte No. 2-345 Kilovolt (kV) Transmission Line Project (Project) and by this notice is announcing the opening of a 45 day public comment period.

DATES: The BLM must receive written comments on the Draft EIS within 45 days following the date the Environmental Protection Agency publishes its Notice of Availability in the Federal Register to ensure the comments will be considered. The BLM will host public meetings/hearings in St. George, Milford, Enterprise, and Richfield, Utah, to provide an overview of the Project and take public comments on the proposed Project and the Draft EIS. The dates of public meetings/hearings or other public involvement activities will be announced at least 15 days in advance through public notices, media news releases, and/or mailings, and the BLM Web site at: http://www.blm.gov/ut/st/en/fo/cedar_city/planning.html.

ADDRESSES: You may submit comments on the Draft EIS by any of the following methods:

• E-mail: utsrbproj@blm.gov.

• Mail: BLM, Cedar City Field Office, 176 East D.L. Sargent Drive, Cedar City, Utah, 84721, Attention: Tamara Gertsch.

• Web site: http://www.blm.gov/ut/st/en/fo/cedar_city/planning.html.

FOR FURTHER INFORMATION CONTACT: For further information and/or to have your name added to our mailing list, contact Tamara Gertsch, Project Manager; telephone (307) 775-6115; e-mail utsrbproj@blm.gov; address BLM, Cedar City Field Office, 176 East D.L. Sargent Drive, Cedar City, Utah 84721. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: PacifiCorp, doing business as Rocky Mountain Power, has filed right-of-way applications with the BLM and United States Forest Service (USFS) proposing to construct, operate, and maintain the Project, a single-circuit, alternating-current (AC), 345 kV overhead transmission line. The transmission line would be located to connect the existing Sigurd Substation near Richfield in Sevier County with the existing Red Butte Substation near the community of Central in Washington County, Utah, a distance of approximately 160 miles depending on the route selected. The Project also includes expansion of the existing Sigurd Substation on private land to accommodate new substation equipment for interconnecting the proposed transmission line with the existing system. When completed, the Project would provide about 600 megawatts of electrical capacity to respond to anticipated load growth in Southwestern Utah. Alternative routes considered in the Draft EIS cross Federal, state, tribal, and private lands.

The requested right-of-way width on Federal lands for construction and operation of the Project is 150 feet. The Proponent proposes to predominantly use steel-pole H-frame tower structures, from 80 to 140 feet in height, with average spans between structures of 800 to 1,200 feet (5 to 7 structures per mile). Permanent and temporary access roads, a minimum of 14 feet wide, would be needed for the Project. Temporary access roads would be needed for construction only. Temporary work space would be needed during construction for material storage, conductor tensioning sites, and to accommodate vehicles and equipment.

Under Federal law, the BLM is responsible for responding to applications for rights-of-way on BLM-administered lands. Similarly, under Federal law, the USFS is responsible for responding to applications for rights-of-way on lands they administer. In accordance with NEPA, the BLM has prepared a Draft EIS for the Project. An interdisciplinary approach was used to develop the Draft EIS, in order to consider a variety of resource issues and concerns identified during internal, interagency, and public scoping. The BLM is the designated lead Federal agency for preparation of the EIS as defined at 40 CFR 1501.5. Agencies with jurisdiction by law or special expertise were invited to participate as cooperating agencies in preparation of the EIS. The following agencies have agreed to participate as cooperating agencies: USFS (Dixie and Fishlake National Forests); U.S. Army Corps of Engineers; National Park Service; State of Utah; Millard, Sevier, Beaver, Iron, and Washington counties, Utah; and the cities of St. George and Enterprise, Utah.

In response to Section 368 of the Energy Policy Act of 2005 (42 U.S.C. 15926), a Programmatic EIS was prepared by the Department of Energy and the Department of the Interior for energy corridors in 11 western states including Utah. A Final Programmatic EIS was published on November 28, 2008 (73 FR 72521). Records of Decision (ROD) on the Programmatic Environmental Impact Statement, Designation of Energy Corridors on Federal Land in the 11 Western States (DOE/EIS-0386), signed January 14, 2009, designated energy corridors and provided guidance, best management practices, and mitigation measures to be used where linear facilities are proposed within the corridors. Corridor designation occurred upon BLM's amendment of its relevant Resource Management Plans and upon USFS' amendment of its Land Management Plans. Designation of corridors does not require their use, nor does such designation exempt the Federal agencies from conducting a site-specific environmental review on each Project. The BLM has considered the use of the corridors in preparation of the Draft EIS. Documents pertinent to the right-of-way application and the Draft EIS for the Project may be examined at:

• BLM, Cedar City Field Office, 176 East D.L. Sargent Drive, Cedar City, Utah 84721;

• BLM, Richfield Field Office, 150 East, 900 North, Richfield, Utah 84701;

• BLM, Fillmore Field Office, 35 East, 500 North, Fillmore, Utah 84631;

• Dixie National Forest Office, 1789 North Wedgewood Lane, Cedar City, Utah 84721;

• Fishlake National Forest Office, 115 East 900 North, Richfield, Utah 84701.

Please note that public comments may be available for public review and disclosure at the above address during regular business hours (8 a.m. to 4 p.m.), Monday through Friday, except holidays.

Before including your address, phone number, e-mail address, or any other personal identifying information in your comment, you should be aware that your entire comment—including your personal identifying information—may be made publicly available at any time. While you can request in your comment that your personal identifying information be withheld from public review, the BLM cannot guarantee that they will be able to do so.

Juan Palma,
State Director.

[FR Doc. 2011-13009 Filed 5-26-11; 8:45 am]

BILLING CODE 4310-DQ-P